ENVIRONMENTAL PROTECTION AGENCY

[EPA-HQ-OPP-2025-0030; FRL-12881-02-OCSPP]

Product Cancellation Order for Certain Pesticide Registrations (From July 31, 2025, Notice)

AGENCY: Environmental Protection Agency (EPA).

ACTION: Notice.

SUMMARY: This notice announces EPA's order for the cancellations, voluntarily requested by the registrants and accepted by the Agency, of the products listed in Table 1 & Table 1A of Unit II, pursuant to the Federal Insecticide, Fungicide, and Rodenticide Act (FIFRA). This cancellation order follows a July 31, 2025, Federal Register Notice of Receipt of Requests from the registrant listed in Table 2 of Unit II, to voluntarily cancel these product registrations. In the July 31, 2025, notice, EPA indicated that it would issue an order implementing the cancellations, unless the Agency received substantive comments within the 30-day comment period that would merit its further review of these requests, or unless the registrant withdrew their requests. The registrant of 70060-12, 70060-13 & 70060-32 withdrew their requests; therefore, they have been removed from this notice. Accordingly, EPA hereby issues in this notice a cancellation order granting the requested cancellations. Any distribution, sale, or use of the products subject to this cancellation order is permitted only in accordance with the terms of this order, including any existing stocks provisions.

DATES: The cancellations are effective February 10, 2026.

FOR FURTHER INFORMATION CONTACT: Christopher Green, Regulatory & Information Services Division, Office of Mission Critical Operations, Environmental Protection Agency, 1200 Pennsylvania Ave., NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2025-0030, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellation, as requested by registrant, of products registered under FIFRA section 3 (7 U.S.C. 136a). These registrations are listed in sequence by registration number in Table 1 of this unit.

Table 1—Product Cancellations
Registration No. | Company No. | Product name | Active ingredient
71-1 | 71 | 0.5% Permethrin Aerosol Spray | Permethrin (109701/52645-53-1)—(.5%).
100-1728 | 100 | CSI 15-107A I-N-P Cockroach Gel Bait | Indoxacarb (067710/173584-44-6)—(.6%), Novaluron (124002/116714-46-6)—(.1%), Pyriproxyfen (129032/95737-68-1)—(.1%).
228-655 | 228 | Nufarm T-Methyl 70 WSB Fungicide | Thiophanate-methyl (102001/23564-05-8)—(70%).
241-384 | 241 | Lightning D Herbicide | Dicamba, sodium salt (029806/1982-69-0)—(58.9%), Imazapyr (128821/81334-34-1)—(4%), Imazethapyr (128922/81335-77-5)—(12%).
241-393 | 241 | Plateau DG Herbicide | Imazapic (129041/104098-48-8)—(70%).
538-88 | 538 | Systemic Fungicide | Thiophanate-methyl (102001/23564-05-8)—(2.3%).
538-133 | 538 | Proturf Fertilizer Plus DSB Fungicide | Thiophanate-methyl (102001/23564-05-8)—(1.75%).
1001-63 | 1001 | 3336 WP Turf and Ornamental Systemic Fungicide | Thiophanate-methyl (102001/23564-05-8)—(50%).
1001-78 | 1001 | 3336 Plus Systemic Fungicide | Thiophanate-methyl (102001/23564-05-8)—(19.4%).
1001-80 | 1001 | Premium Systemic Fungicide | Thiophanate-methyl (102001/23564-05-8)—(44.62%).
1001-81 | 1001 | 3336(R) 70EG | Thiophanate-methyl (102001/23564-05-8)—(70%).
1001-85 | 1001 | Culver Turf And Ornamental Fungicide | Chlorothalonil (081901/1897-45-6)—(54%).
1381-222 | 1381 | Thiophanate-Methyl 45% F Fungicide | Thiophanate-methyl (102001/23564-05-8)—(46.2%).
1381-228 | 1381 | Thiophanate-Methyl 50% WSB Fungicide | Thiophanate-methyl (102001/23564-05-8)—(50%).
2693-107 | 2693 | Fiberglass Bottomkote Antifouling Paint Black 779 | Cuprous oxide (025601/1317-39-1)—(42.75%).
2724-674 | 2724 | Speer PY-Perm Aqueous Insect Killer #2 | Permethrin (109701/52645-53-1)—(.2%), Piperonyl butoxide (067501/51-03-6)—(.5%), Pyrethrins (069001/8003-34-7)—(.1%).
5481-583 | 5481 | Durham Ornamental 3.5 | Metaldehyde (053001/108-62-3)—(3.5%).
7969-285 | 7969 | Prescription Treatment Brand Phantom Pressurized Insecticide | Chlorfenapyr (129093/122453-73-0)—(.5%).
9386-42 | 9386 | AMA-2500G | Glutaraldehyde (043901/111-30-8)—(25%).
9779-328 | 9779 | Terranil 90DF WSP | Chlorothalonil (081901/1897-45-6)—(90%).
9779-337 | 9779 | Terranil S | Chlorothalonil (081901/1897-45-6)—(19.15%), Sulfur (077501/7704-34-9)—(27.25%).
19713-340 | 19713 | Rabex Livestock Dust | Gardona (cis-isomer) (083702/22248-79-9)—(3%).
34704-870 | 34704 | Chlorothalonil 6 | Chlorothalonil (081901/1897-45-6)—(54%).
34704-874 | 34704 | Applause DF Fungicide | Chlorothalonil (081901/1897-45-6)—(90%).
34704-878 | 34704 | Chlorothalonil 90DF | Chlorothalonil (081901/1897-45-6)—(90%).
34704-914 | 34704 | Chlorothalonil 825 Agricultural Fungicide | Chlorothalonil (081901/1897-45-6)—(82.5%).
34704-932 | 34704 | Thio-M 50 WSB Fungicide | Thiophanate-methyl (102001/23564-05-8)—(50%).
42750-350 | 42750 | ST Pre-Mix #9 | Azoxystrobin (128810/131860-33-8)—(1.18%), Metalaxyl (113501/57837-19-1)—(8.83%), Thiabendazole (060101/148-79-8)—(2.94%), Thiophanate-methyl (102001/23564-05-8)—(2.35%).
42750-353 | 42750 | ST Pre-Mix #11 | Fludioxonil (071503/131341-86-1)—(.81%), Imidacloprid (129099/138261-41-3)—(20.17%), Metalaxyl (113501/57837-19-1)—(5.05%), Thiophanate-methyl (102001/23564-05-8)—(3.28%).
42750-379 | 42750 | ST Pre-Mix #20 | Azoxystrobin (128810/131860-33-8)—(.71%), Imidacloprid (129099/138261-41-3)—(21.14%), Metalaxyl (113501/57837-19-1)—(5.28%), Thiabendazole (060101/148-79-8)—(1.76%), Thiophanate-methyl (102001/23564-05-8)—(1.4%).
42750-410 | 42750 | Invicar 2SC Insecticide | Methoxyfenozide (121027/161050-58-4)—(22.6%).
60063-2 | 60063 | Echo 75 WDG | Chlorothalonil (081901/1897-45-6)—(75%).
60063-16 | 60063 | Echo Home Garden Fungicide | Chlorothalonil (081901/1897-45-6)—(12.5%).
60063-30 | 60063 | Echo RTU | Chlorothalonil (081901/1897-45-6)—(.087%).
60063-36 | 60063 | Echo Ultimate ETQ | Chlorothalonil (081901/1897-45-6)—(82.5%).
60063-47 | 60063 | Echo 378/Cymoxanil 50 | Chlorothalonil (081901/1897-45-6)—(31.51%), Cymoxanil (129106/57966-95-7)—(4.2%).
60063-49 | 60063 | Muscle ADV | Chlorothalonil (081901/1897-45-6)—(30.51%), Tebuconazole (128997/107534-96-3)—(8.47%).
60063-55 | 60063 | CTL + IPRO Turf and Ornamental Fungicide | Chlorothalonil (081901/1897-45-6)—(28%), Iprodione (109801/36734-19-7)—(14%).
60063-82 | 60063 | Tetraconazole + Thiophanate-Methyl | Tetraconazole (120603/112281-77-3)—(4.2%), Thiophanate-methyl (102001/23564-05-8)—(21.27%).
60063-84 | 60063 | Tetraconazole TM | Tetraconazole (120603/112281-77-3)—(4.2%), Thiophanate-methyl (102001/23564-05-8)—(21.27%).
83070-1 | 83070 | Tee-Off 4.5F | Thiophanate-methyl (102001/23564-05-8)—(46.2%).
83070-12 | 83070 | Mazinga Fungicide | Chlorothalonil (081901/1897-45-6)—(27.69%), Tetraconazole (120603/112281-77-3)—(2.09%).
83070-13 | 83070 | Andiamo Duo | Tetraconazole (120603/112281-77-3)—(4.2%), Thiophanate-methyl (102001/23564-05-8)—(21.27%).
89442-6 | 89442 | Chlorothalonil 82.5DF Select | Chlorothalonil (081901/1897-45-6)—(82.5%).
89442-9 | 89442 | Chlorothalonil 720 Select | Chlorothalonil (081901/1897-45-6)—(54%).
92044-2 | 92044 | Chlorothalonil 720SC | Chlorothalonil (081901/1897-45-6)—(54%).
92044-3 | 92044 | Chlorothalonil 82.5 WDG | Chlorothalonil (081901/1897-45-6)—(82.5%).
100522-11 | 100522 | SA Pendimethalin Technical | Pendimethalin (108501/40487-42-1)—(97.2%).
AK-160001 | 67690 | SP 1908 Aquatic Herbicide | Fluridone (112900/59756-60-4)—(6.3%).
AR-130003 | 279 | Spartan Charge Herbicide | Carfentrazone-ethyl (128712/128639-02-1)—(3.53%), Sulfentrazone (129081/122836-35-5)—(31.77%).
AR-190001 | 100 | Gramoxone SL 2.0 | Paraquat dichloride (061601/1910-42-5)—(30.1%).
MO-150001 | 87290 | Willowood Clomazone 3ME | Clomazone (125401/81777-89-1)—(31.1%).
OR-090006 | 62719 | Rally 40WSP | Myclobutanil (128857/88671-89-0)—(40%).
OR-140011 | 34704 | LPI Glufosinate 280 | Glufosinate (128850/77182-82-2)—(24.5%).
OR-150004 | 352 | Curzate 60DF | Cymoxanil (129106/57966-95-7)—(60%).
OR-150008 | 279 | Zeus XC Herbicide (Alternate) | Sulfentrazone (129081/122836-35-5)—(39.6%).
OR-180007 | 51036 | Kumulus DF | Sulfur (077501/7704-34-9)—(80%).
OR-190006 | 10163 | Eptam 7E Selective Herbicide | Carbamothioic acid, dipropyl-, S-ethyl ester (041401/759-94-4)—(87.8%).
OR-210002 | 56228 | Compound DRC-1339 Concentrate-Livestock Nest & Fodder Depredations | Starlicide (009901/7745-89-3)—(97%).
OR-220004 | 352 | Dupont Fontelis Fungicide | Penthiopyrad (090112/183675-82-3)—(20.4%).
WA-070008 | 70506 | Acramite-4SC | Bifenazate (000586/149877-41-8)—(43.2%).
WA-150003 | 70506 | Acramite-4SC | Bifenazate (000586/149877-41-8)—(43.2%).
WI-210002 | 60063 | Echo 720 | Chlorothalonil (081901/1897-45-6)—(54%).
WI-210003 | 60063 | Echo 90DF | Chlorothalonil (081901/1897-45-6)—(90%).
WI-210004 | 60063 | Echo ZN | Chlorothalonil (081901/1897-45-6)—(38.5%).

The registrants of products identified in Table 1A of this unit have requested 18-months to sell existing stocks of those products.

Table 1A—Product Cancellations, Cont'd.
Registration No. | Company No. | Product name | Active ingredient
6836-389 | 6836 | Barrachlor Fungicide | Chlorothalonil (081901/1897-45-6)—(54%).
70506-43 | 70506 | Surflan A.S. Herbicide | Oryzalin (104201/19044-88-3)—(40.4%).
70506-46 | 70506 | Surflan Dry Flowable | Oryzalin (104201/19044-88-3)—(85%).
70506-458 | 70506 | Ethephon 6 | Ethephon (099801/16672-87-0)—(55.4%).
70506-459 | 70506 | Ethephon 2# | Ethephon (099801/16672-87-0)—(21.7%).
70506-304 | 70506 | Andersons Golf Products Fungo Flo | Thiophanate-methyl (102001/23564-05-8)—(45%).
70506-558 | 70506 | Doubletake | Diflubenzuron (108201/35367-38-5)—(22%), lambda-Cyhalothrin (128897/91465-08-6)—(11%).
70506-561 | 70506 | Doubletake SE | Diflubenzuron (108201/35367-38-5)—(22%), lambda-Cyhalothrin (128897/91465-08-6)—(11%).

Table 2 of this unit includes the names and addresses of record for all registrants of the products in Table 1 of this unit, in sequence by EPA company number. This number corresponds to the first part of the EPA registration numbers of the products listed in Table 1 of this unit.

Table 2—Registrants of Cancelled Products
EPA, company No. | Company name and address
71 | L. Perrigo Company, 515 Eastern Avenue, Allegan, MI 49010.
100 | Syngenta Crop Protection, LLC, 410 Swing Road, P.O. Box 18300, Greensboro, NC 27419-8300.
228 | Nufarm Americas, Inc., 4000 Aerial Center Pkwy., Suite 101, Morrisville, NC 27560.
241 | BASF Agricultural Solutions US, LLC, 2 TW Alexander Drive, Research Triangle Park, NC 27713.
279 | FMC Corporation, 2929 Walnut Street, Philadelphia, PA 19104.
352 | Corteva Agriscience, LLC, 9330 Zionsville Road, Indianapolis, IN 46268.
538 | Scotts Company, The, 14111 Scottslawn Road, Marysville, OH 43041.
1001 | Cleary Chemicals, LLC, Agent Name: Nufarm Americas, Inc., 4000 Aerial Center Pkwy., Suite 101, Morrisville, NC 27560.
1381 | Winfield Solutions, LLC, P.O. Box 64589, St. Paul, MN 55164-0589.
2693 | International Paint, LLC, 6001 Antoine Drive, Houston, TX 77091.
2724 | Wellmark International, 1501 E Woodfield Road, Suite 200 West, Schaumburg, IL 60173.
5481 | AMVAC Chemical Corporation, 4695 Macarthur Court, Suite 1200, Newport Beach, CA 92660-1706.
6836 | Arxada, LLC, 412 Mount Kemble Avenue, Suite 200S, Morristown, NJ 07960.
7969 | BASF Agricultural Solutions US, LLC, 2 TW Alexander Drive, Research Triangle Park, NC 27713.
9386 | Kemira Water Solutions, Inc., Agent Name: Ramboll, 4245 North Fairfax Drive, Suite 700, Arlington, VA 22203.
9779 | Winfield Solutions, LLC, P.O. Box 64589, St. Paul, MN 55164-0589.
10163 | Gowan Company, LLC, 370 S Main St., Yuma, AZ 85364.
19713 | Drexel Chemical Company, P.O. Box 13327, Memphis, TN 38113-0327.
34704 | Loveland Products, Inc., Agent Name: Pyxis Regulatory Consulting, Inc., 4110 136th Street Ct. NW, Gig Habor, WA 98332.
42750 | Albaugh, LLC, 1525 NE 36th Street, Ankeny, IA 50021.
51036 | BASF Agricultural Solutions US, LLC, 2 TW Alexander Drive, Research Triangle Park, NC 27713.
56228 | U.S. Department of Agriculture, Animal and Plant Health Inspection Service, 4700 River Road, Riverdale, MD 20737.
60063 | Sipcam Agro USA, Inc., 2525 Meridian Pkwy., Durham, NC 27713.
62719 | Corteva Agriscience, LLC, 9330 Zionsville Road, Indianapolis, IN 46268.
67690 | SePRO Corporation, 11550 N Meridian Street, Suite 600, Carmel, IN 46032.
70506 | MacDermid Agricultural Solutions, Inc., Agent Name: UPL NA, Inc., 630 Freedom Business Center, Suite 402, King of Prussia, PA 19406.
83070 | Advan, LLC, 2525 Meridian Pkwy., Durham, NC 27713.
87290 | Generic Crop Science, LLC, Agent Name: SynTech Research Group, 7217 Lancaster Pike, Suite A, P.O. Box 640, Hockessin, DE 19707.
89442 | Prime Source, A Division of Albaugh, LLC, 1525 NE 36th Street, Ankeny, IA 50021.
92044 | CAC Chemical Americas, LLC, Agent Name: Pyxis Regulatory Consulting, Inc., 535 Dock Street, Suite 211, Tacoma, WA 98402.
100522 | Sullution Agro, LLC, Agent Name: Pyxis Regulatory Consulting, Inc., 535 Dock Street, Suite 211, Tacoma, WA 98402.

III. Summary of Public Comments Received and Agency Response to Comments

During the public comment period provided, EPA received two comments in response to the July 31, 2025, Federal Register notice announcing the Agency's receipt of the requests for voluntary cancellations of the products listed in Table 1 & Table 1A of Unit II, including one that agreed with the cancellations and the second comment requesting EPA to consider the effect of the requested cancellations on agricultural and public health users. The Agency's response is as follows. As required by FIFRA Section 6(f), the Agency evaluates the potential impacts of all voluntary requests to cancel pesticide products and uses, and may modify or reconsider the cancellation as appropriate. Additionally, this order and all similar FIFRA Section 6(f) cancellation orders include provisions clearly specifying allowable sale, distribution, and use of cancelled products.

IV. Cancellation Order

Pursuant to FIFRA section 6(f) (7 U.S.C. 136d(f)), EPA hereby approves the requested cancellations of the registrations identified in Table 1 & Table 1A of Unit II. Accordingly, the Agency hereby orders that the product registrations identified in Table 1 & Table 1A of Unit II, are canceled. The effective date of the cancellations that are the subject of this notice is February 10, 2026. Any distribution, sale, or use of existing stocks of the products identified in Table 1 & Table 1A of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 31, 2025, (90 FR 36046) (FRL-12881-01). The comment period closed on September 02, 2025.

VI. Provisions for Disposition of Existing Stocks

Existing stocks are those stocks of registered pesticide products which are currently in the United States, and which were packaged, labeled, and released for shipment prior to the effective date of the cancellation action. The existing stocks provisions for the products subject to this order are as follows.

The registrant may continue to sell and distribute existing stocks of the products listed in Table 1 of Unit II, until February 10, 2027, which is 1 year after the publication of the Cancellation Order in the Federal Register. Thereafter, the registrant is prohibited from selling or distributing the products listed in Table 1 of Unit II, except for export in accordance with FIFRA section 17 (7 U.S.C. 136o), or proper disposal.

For the products listed in Table 1A, the registrants have requested 18-months to sell existing stocks of those products. The registrants may continue to sell and distribute existing stocks of the products listed in Table 1A of Unit II, until August 10, 2027, a period of 18 months after publication of the cancellation order in the Federal Register. Thereafter, the registrants are prohibited from selling or distributing the products listed in Table 1A of Unit II, except for export in accordance with FIFRA section 17 (7 U.S.C. 136o), or proper disposal.

Persons other than the registrant may sell, distribute, or use existing stocks of products listed in Table 1 & Table 1A of Unit II, until existing stocks are exhausted, provided that such sale, distribution, or use is consistent with the terms of the previously approved labeling on, or that accompanied, the canceled products.

Authority: 7 U.S.C. 136 et seq.

Dated: January 29, 2026.
Charles Smith,
Director, Registration Division, Office of Pesticide Programs.

[FR Doc. 2026-02572 Filed 2-9-26; 8:45 am]

BILLING CODE 6560-50-P